DEPARTMENT OF VETERANS AFFAIRS

[OMB Control No. 2900-0849]

Agency Information Collection Activity Under OMB Review: Alternate Signer Certification

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before November 6, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0849” in any correspondence.

FOR FURTHER INFORMATION CONTACT: Danny S. Green, (202) 421-1354 or email Danny.Green2@va.gov. Please refer to “OMB Control No. 2900-0849” in any correspondence.

SUPPLEMENTARY INFORMATION:

Authority: 44 U.S.C. 3501-21.

Title: Alternate Signer Certification (VA Form 21-0972).

OMB Control Number: 2900-0849.

Type of Review: Extension of a currently approved collection.

Abstract: The VA Form 21-0972 is used to collect the alternate signer information necessary for VA to accept benefit application forms signed by the individuals on behalf of veterans and claimants. The information collected will be used to contact the alternate signer for verification purposes.

An agency may not conduct or sponsor, and a person is not required to respond to a collection of information unless it displays a currently valid OMB control number.

The Federal Register Notice with a 60-day comment period soliciting comments on this collection of information was published at 84 FR 118, on June 19, 2019, page 28627.

Affected Public: Individuals and households.

Estimated Annual Burden: 1,250.

Estimated Average Burden per Respondent: 15 minutes.

Frequency of Response: One time.

Estimated Number of Respondents: 5,000.

By direction of the Secretary.
Danny S. Green,
VA Interim Clearance Officer, Office of Quality, Performance and Risk Department of Veterans Affairs.

[FR Doc. 2019-21703 Filed 10-4-19; 8:45 am]

BILLING CODE 8320-01-P